Title 3—

The President

Proclamation 8395 of July 6, 2009

National Summer Learning Day, 2009

By the President of the United States of America

A Proclamation

Like an athlete out of practice, a child who takes long breaks from learning can face academic setbacks. This problem is especially prominent during the summer, when students may lose more than two months of progress. Children must remain engaged to maintain and build upon their current academic achievement.

Learning loss can be especially pronounced among low-income children. Recent research suggests that unequal access to summer learning opportunities helps explain the achievement gap between low-income and affluent students. This gap ultimately means that low-income students may be less likely to graduate from high school or enroll in college.

High-quality summer learning programs help children catch up, keep up, and work ahead. These activities provide students with hours of focused time for hands-on learning and creative projects. Participation can result in gains in writing, reading, and math skills. Through the arts, sports, and other extracurricular activities, summer learning opportunities also promote innovation and physical fitness. These health benefits are especially important because childhood obesity is at an all-time high and children typically gain weight two to three times faster during the summer.

Sustained public service can also dramatically impact summer learning loss. Students can challenge themselves and others through mentoring, environmental projects, and other meaningful volunteer work. Youth and their communities both benefit from these activities. Local opportunities for service can be found at: Serve.gov.

Families and community members play the most important role in the lives of their children. Demands at work and home mean that many parents have less time to spend with their children, but this time, care, and instruction is critical to children’s academic success. Especially during the summer, parents should try to find time to read interactively with children. When possible, families should visit public libraries, tour museums and science centers, and explore the great outdoors. Parents can also encourage youth to keep a journal and to practice math skills through cooking and games.

Even though summer has arrived, student learning needs do not take a vacation. On Summer Learning Day, we highlight the need for more young people to be challenged during their time off from school. We also express support for local programs, communities, and families that help children grow through learning initiatives. Working together, we can help students remain engaged and return to school with lithe and limber minds.

NOW, THEREFORE, I, BARACK OBAMA, President of the United States of America, by virtue of the authority vested in me by the Constitution and laws of the United States, do hereby proclaim July 9, 2009, as National Summer Learning Day. I call upon all Americans to support students as they participate in summer learning. I encourage students, parents, educators, and the non-profit community to engage in summer learning activities so that youth return to school poised for academic advancement.

IN WITNESS WHEREOF, I have hereunto set my hand this sixth day of July, in the year of our Lord two thousand nine, and of the Independence of the United States of America the two hundred and thirty-fourth.

[FR Doc. E9-16425

Filed 7-8-09; 8:45 am]

Billing code 3195-W9-P